DEPARTMENT OF ENERGY

Federal Energy Regulatory Commission

[Project No. 1388-081]

Southern California Edison; Notice of Intent To File License Application, Filing of Pre-Application Document, and Approving Use of the Traditional Licensing Process

a. Type of Filing: Notice of Intent to File License Application and Request to Use the Traditional Licensing Process.

b. Project No.: 1388-081.

c. Dated Filed: August 12, 2021.

d. Submitted By: Southern California Edison.

e. Name of Project: Lee Vining Hydroelectric Project.

f. Location: Approximately 9 miles upstream of Mono Lake and the Town of Lee Vining, in Mono County, California. The project occupies land within the Inyo National Forest administered by the U.S. Forest Service.

g. Filed Pursuant to: 18 CFR 5.5 of the Commission's regulations.

h. Applicant Contact: Matthew Woodhall, Relicensing Project Manager, Southern California Edison, Southern California Edison Company 1515 Walnut Grove Avenue, Rosemead, CA 91770, (626) 302-9596, matthew.woodhall@sce.com.

i. FERC Contact: Kelly Wolcott at (202) 502-6480 or kelly.wolcott@ferc.gov.

j. Southern California Edison (SCE) filed its request to use the Traditional Licensing Process on August 12, 2021. YCWA provided public notice of its request on September 7, 2021. In a letter dated October 8, 2021, the Director of the Division of Hydropower Licensing approved YCWA's request to use the Traditional Licensing Process.

k. With this notice, we are initiating informal consultation with the U.S. Fish and Wildlife Service and/or NOAA Fisheries under section 7 of the Endangered Species Act and the joint agency regulations thereunder at 50 CFR, part 402; and NOAA Fisheries under section 305(b) of the Magnuson-Stevens Fishery Conservation and Management Act and implementing regulations at 50 CFR 600.920. We are also initiating consultation with the California State Historic Preservation Officer, as required by section 106, National Historic Preservation Act, and the implementing regulations of the Advisory Council on Historic Preservation at 36 CFR 800.2.

l. With this notice, we are designating SCE as the Commission's non-federal representative for carrying out informal consultation, pursuant to section 7 of the Endangered Species Act and section 305(b) of the Magnuson-Stevens Fishery Conservation and Management Act; and consultation pursuant to section 106 of the National Historic Preservation Act.

m. SCE filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field to access the document. At this time, the Commission has suspended access to the Commission's Public Reference Room, due to the proclamation declaring a National Emergency concerning the Novel Coronavirus Disease (COVID-19), issued by the President on March 13, 2020. For assistance, contact FERC Online Support at FERCONlineSupport@ferc.gov, (866) 208-3676 (toll free), or (202) 502-8659 (TTY).

o. The applicant states its unequivocal intent to submit an application for a new license for Project No.1388-081. Pursuant to 18 CFR 16.8, 16.9, and 16.10 each application for a new license and any competing license applications must be filed with the Commission at least 24 months prior to the expiration of the existing license. All applications for license for this project must be filed by January 31, 2024.

p. Register online at https://ferconline.ferc.gov/eSubscription.aspx to be notified via email of new filing and issuances related to this or other pending projects. For assistance, contact FERC Online Support.

Dated: October 8, 2021.
Kimberly D. Bose,
Secretary.

[FR Doc. 2021-22517 Filed 10-14-21; 8:45 am]

BILLING CODE 6717-01-P